DEPARTMENT OF COMMERCE

National Oceanic and Atmospheric Administration

[I.D. 042506B]

North Pacific Fishery Management Council; Public Meeting

AGENCY: National Marine Fisheries Service (NMFS), National Oceanic and Atmospheric Administration (NOAA), Commerce.

ACTION: Notice of a committee meeting.

SUMMARY: The North Pacific Fishery Management Council's (Council) Steller Sea Lion Mitigation Committee (SSLMC) will meet in Seattle, WA.

DATES: The meeting will be held on May 16-18, 2006, from 8:30 a.m. to 5 p.m.

ADDRESSES: The meeting will be held at the Alaska Fisheries Science Center (AFSC), 7600 Sand Point Way NE, Building 4, Room 2076, Seattle, WA.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The committee's agenda includes the following issues:

Introductions and opening remarks, Minutes of last meeting; Update on consultation Process; Overview of Biological Assessment, Consultation Species, Other Consultations; Compendium of Steller Sea Lion (SSL) literature; Update on SSL and other marine mammal research: National Marine Mammal Laboratory SSL telemetry, Diet Studies; Sea Life Center Marine Mammal Research; Vancouver Aquarium and University British Columbia Marine Mammal Programs; Alaska Department of Fish &Game SSL Programs; and the AFSC Fishery Interaction Team Program. The Committee will discuss and deliberate on these issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: April 25, 2006.
Tracey L. Thompson,
Acting Director, Office of Sustainable Fisheries, National Marine Fisheries Service.

[FR Doc. E6-6441 Filed 4-27-06; 8:45 am]

BILLING CODE 3510-22-S